DELAWARE RIVER BASIN COMMISSION

18 CFR Part 410

Amendments to the Water Quality Regulations, Water Code and Comprehensive Plan To Classify the Lower Delaware River as Special Protection Waters

AGENCY: Delaware River Basin Commission.

ACTION: Final rule.

SUMMARY: By Resolution No. 2008-9 on July 16, 2008, the Delaware River Basin Commission (“Commission” or DRBC) approved amendments to its Water Quality Regulations, Water Code and Comprehensive Plan to establish numeric values for existing water quality for the reach of the main stem Delaware River known as the “Lower Delaware” and to assign the Special Protection Waters (SPW) classification “Significant Resource Waters” (SRW) on a permanent basis to this reach. The Commission also approved language to clarify aspects of the SPW regulations, especially with respect to existing facilities, that have confused some DRBC docket holders and applicants since the SPW program was originally adopted by the Commission in 1992 for point sources and in 1994 for non-point sources.

DATES: Effective September 26, 2008. The incorporation by reference of the publications listed in this rule is approved by the Director of the Federal Register as of September 26, 2008.

FOR FURTHER INFORMATION CONTACT: Pamela M. Bush, secretary and assistant general counsel, Delaware River Basin Commission, by phoning 609-883-9500 ext. 203, or by e-mail to pamela.bush@drbc.state.nj.us; Kim Wobick, information resources coordinator, Delaware River Basin Commission, by phoning 609-883-9500 ext. 263, or by e-mail to kim.wobick@drbc.state.nj.us.

SUPPLEMENTARY INFORMATION: The Delaware River Basin Commission (“Commission” or “DRBC”) is a federal-state regional agency charged with managing the water resources of the Delaware River Basin without regard to political boundaries. Its members are the governors of the four Basin states—Delaware, New Jersey, New York and Pennsylvania—and the North Atlantic Division Commander of the U.S. Army Corps of Engineers, representing the federal government.

Notice of the proposed amendments appeared in the Federal Register (72 FR 57255) on October 9, 2007 as well as in the Delaware Register of Regulations on October 1, 2007 (11 DE Reg. 376-378 (10/01/07)), the New Jersey Register (39 N.J.R. 4392) on October 15, 2007, the New York State Register (page 8) on October 10, 2007 and the Pennsylvania Bulletin (37 Pa. B. 5527) on October 13, 2007, respectively. The Commission held informational meetings about the proposed changes on October 25, 2007 in Stockton, New Jersey and on November 1, 2007 in Easton, Pennsylvania. A public hearing was held on December 4, 2007, and written comments were received through December 6, 2007.

By Resolution No. 2005-2 in January of 2005, following a duly noticed public hearing, the Commission classified the Lower Delaware River as SRW on a temporary basis, pending the determination of numeric values for existing water quality for this section of the river and a thorough evaluation of the data to determine whether or not to classify certain sections of the Lower Delaware as Outstanding Basin Waters and whether to make the temporary Special Protection Waters designation permanent for some or all of the Lower Delaware. Following additional advertised public hearings in September 2005, September 2006, September 2007 and May 2008, temporary designation was extended repeatedly pending the Commission's final action on July 16, 2008. By that action, the Commission continued temporary classification of the Lower Delaware as SRW once more, until the amendments approved by Resolution No. 2008-9 are filed with each of the signatory parties in accordance with Section 14.2 of the Delaware River Basin Compact and a notice of final rulemaking has appeared in the Federal Register.

A comment and response document addressing comments offered at the public hearing and written comments received through the close of the comment period is available on the Commission's Web site, DRBC.net. Copies of this document may be obtained by request of the Commission's information resources coordinator at the telephone and e-mail addresses listed above. A charge for printing and mailing may apply.

DRBC Resolution No. 2008-9, including the amended rule in the form approved by the resolution, also is available on the DRBC Web site, DRBC.net. The resolution incorporates the entire text of Section 3.10.3 A.2. of the Water Quality Regulations and Water Code, showing the amendments as proposed in October of 2007 and as finally approved by the Commission on July 16, 2008. Copies may be obtained from the information resources coordinator at the telephone and e-mail addresses listed above. A charge for printing and mailing may apply.

List of Subjects in 18 CFR Part 410

Incorporation by reference, Water pollution control, Water reservoirs, Water supply, Watersheds.

For the reasons set forth in the preamble, the Delaware River Basin Commission amends Part 410 of title 18 of the Code of Federal Regulations as follows:

PART 410—BASIN REGULATIONS; WATER CODE AND ADMINISTRATIVE MANUAL—PART III WATER QUALITY REGULATIONS

1. The authority citation for Part 410 continues to read:

Authority: Delaware River Basin Compact, 75 Stat. 688.

2. Revise § 410.1 to read as follows:

§ 410.1 Basin regulations—Water Code and Administrative Manual—Part III Water Quality Regulations.

(a) The Water Code of the Delaware River Basin is a codification of regulations of the Delaware River Basin Commission applicable to public and private water projects and programs within the Delaware River Basin. Article I of the water code sets forth general policies of the Commission. Article II concerns the conservation, development and utilization of Delaware River Basin water resources, including during periods of drought. Article III sets forth water quality standards and guidelines for the Delaware River Basin. Article IV contains rules relating to application of water quality standards within the Basin. The Commission's Administrative Manual—Part III, Water Quality Regulations, applies to all public and private entities that discharge waste to waters of the Delaware River Basin.

(b) Article III of the water code consists of Article III of the water quality regulations. Article IV of the water code consists of portions of Article IV of the water quality regulations.

(c) Work, services, activities and facilities affecting the conservation, utilization, control, development or management of water resources within the Delaware River Basin are subject to the regulations contained within the Delaware River Basin Water Code with Amendments Through July 16, 2008, Printed: September 12, 2008, and the Administrative Manual Part III Water Quality Regulations with Amendments Through July 16, 2008, Printed: September 12, 2008. Both the Delaware River Basin Water Code and the Administrative Manual Part III Water Quality Regulations are incorporated by reference into this part with the approval of the Director of the Federal Register under 5 U.S.C. 552(a) and 1 CFR part 51. You may obtain or inspect a copy at the Delaware River Basin Commission (DRBC), 25 State Police Drive, West Trenton, New Jersey 08628-0360, 609-883-9500, http://www.drbc.net, or at the National Archives and Records Administration (NARA). For information on the availability of this material at NARA, call 202-741-6030 or go to http://www.archives.gov/federal_register/code_of_federal_regulations/ibr_locations.html.

Dated: September 18, 2008.
Pamela M. Bush,
Secretary and Assistant General Counsel.

[FR Doc. E8-22637 Filed 9-25-08; 8:45 am]

BILLING CODE 6360-01-P